POSTAL SERVICE

39 CFR Part 111

Business Reply Mail Online Application Option

AGENCY: Postal Service™.

ACTION: Final rule.

SUMMARY: The Postal Service™ will revise the Mailing Standards of the United States Postal Service, Domestic Mail Manual (DMM®) 507.9.3.2 and 507.9.5.2 to eliminate the option to obtain a Business Reply Mail® (BRM) permit online. Additionally, the electronic version of PS Form 6805, Qualified Business Reply Mail (QBRM) Application, will also be removed.

DATES: Effective July 6, 2010.

FOR FURTHER INFORMATION CONTACT: Jenny Kalthoff, 202-268-5466 or Yvonne Gifford, 202-268-8082.

SUPPLEMENTARY INFORMATION: Currently, customers can apply for BRM permits and QBRM authorization online or in person at any Post Office™ facility. The ability to obtain a BRM permit online has been available since 2004 and has not sustained the volume of users to support maintaining the system.

Procedures

Beginning May 2010, the ability to obtain a BRM permit online will be eliminated and customers will be required to visit a Post Office and submit a completed hardcopy PS Form 3615, Mailing Permit Application and Customer Profile, to obtain a BRM permit. In addition, customers requesting authorization for QBRM will also be required to visit a Post Office to complete a printed PS Form 6805.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

500 Additional Mailing Services

* * * * *

507 Mailer Services

* * * * *

9.0 Business Reply Mail (BRM)

* * * * *

9.3 Qualified Business Reply Mail (QBRM) Basic Standards

* * * * *

9.3.2 Authorization

[Delete item 9.3.2b in its entirety and incorporate item 9.3.2a into the introduction paragraph as follows:]

To participate in QBRM, a mailer must have a valid BRM permit, must pay the annual account maintenance fee, and must submit Form 6805 to the postmaster or manager, Business Mail Entry at the Post Office to which the QBRM pieces are to be returned. The USPS reviews Form 6805 and preproduction samples provided by the mailer for compliance with relevant standards. If the mailer's request is approved, the USPS issues the mailer an authorization via the approved Form 6805.

* * * * *

9.5 Permits

* * * * *

9.5.2 Application Process

[Delete item 9.5.2b in its entirety and incorporate item 9.5.2. into the introduction paragraph as follows:]

The mailer may apply for a BRM permit by submitting a completed Form 3615 to the Post Office issuing the permit and paying the annual permit fee. If a completed Form 3615 is already on file for the mailer for other permits at that office, then the mailer must submit the annual BRM permit fee and the USPS amends Form 3615 by adding the BRM authorization.

* * * * *

We will publish an appropriate amendment to 39 CFR Part 111 to reflect these changes.

Stanley F. Mires,
Chief Counsel, Legislative.

[FR Doc. 2010-11869 Filed 5-27-10; 8:45 am]

BILLING CODE 7710-12-P